DEPARTMENT OF HOMELAND SECURITY

Federal Law Enforcement Training Center

Charter Renewal, Notice

AGENCY: Federal Law Enforcement Training Center, Department of Homeland Security.

ACTION: Notice.

SUMMARY: The Charter for the Advisory Committee to the National Center for State and Local Law Enforcement Training at the Federal Law Enforcement Training Center was renewed for a 2-year period beginning January 14, 2004.

FOR FURTHER INFORMATION CONTACT: Reba Fischer, Designated Federal Officer, National Center for State and Local Law Enforcement Training, Federal Law Enforcement Training Center, Glynco, GA 31524, 912-267-2343.

SUPPLEMENTARY INFORMATION: Pursuant to the Federal Advisory Committee Act of October 6, 1972, (Pub. L. 92-463, as amended), and with the approval of the Secretary of the Department of Homeland Security and the concurrence of the Office of Management and Budget, the Federal Law Enforcement Training Center announces the renewal of the Advisory Committee to the National Center for State and Local Law Enforcement Training (the Federal Law Enforcement Training Center was transferred from the Department of the Treasury to the Department of Homeland Security pursuant to section 403 of Public Law 107-296). The primary purpose of the Advisory Committee is to provide a forum for discussion and interchange between a broad cross-section of representatives for the law enforcement community and related training institutions on training issues and needs. Although FLETC representatives participate in the training committee activities of the major police membership associations, no forum exists which provides the broad representation required to meet the needs of the National Center. The uniqueness of the program requires an appropriately selected and specifically dedicated group. The Committee does not duplicate functions being performed within Department of Homeland Security or elsewhere in the Federal Government.

Dated: March 29, 2004.
Stanley Moran,
Director, National Center for State and Local Law Enforcement Training.

[FR Doc. 04-8043 Filed 4-12-04; 8:45 am]

BILLING CODE 4810-32-P